DEPARTMENT OF TRANSPORTATION

Federal Aviation Administration

14 CFR Part 39

[Docket No. FAA-2013-0164; Directorate Identifier 2013-NE-10-AD; Amendment 39-17513; AD 2013-14-08]

RIN 2120-AA64

Airworthiness Directives; Austro Engine GmbH Engines

AGENCY: Federal Aviation Administration (FAA), DOT.

ACTION: Final rule.

SUMMARY: We are adopting a new airworthiness directive (AD) for all Austro Engine GmbH model E4 engines. This AD requires removing from service certain part number waste gate controllers. This AD was prompted by several reports of power loss events due to fracture of the waste gate controller lever. We are issuing this AD to prevent engine power loss or in-flight shutdown, which could result in loss of control and damage to the airplane.

DATES: This AD becomes effective August 21, 2013.

ADDRESSES: For service information identified in this AD, contact Austro Engine GmbH, Rudolf-Diesel-Strasse 11, A-2700 Weiner Neustadt, Austria, phone: +43 2622 23000; fax: +43 2622 23000-2711, and Web site: www.austroengine.at. You may view this service information at the FAA, Engine & Propeller Directorate, 12 New England Executive Park, Burlington, MA. For information on the availability of this material at the FAA, call 781-238-7125.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Frederick Zink, Aerospace Engineer, Engine Certification Office, FAA, Engine & Propeller Directorate, 12 New England Executive Park, Burlington, MA 01803; phone: 781-238-7779; fax: 781-238-7199; email: frederick.zink@faa.gov.

SUPPLEMENTARY INFORMATION:

Discussion

We issued a notice of proposed rulemaking (NPRM) to amend 14 CFR part 39 to include an AD that would apply to the specified products. The NPRM was published in the Federal Register on March 28, 2013 (78 FR 18920). The NPRM proposed to correct an unsafe condition for the specified products. The European Aviation Safety Agency (EASA) issued EASA AD No. 2013-0025, dated February 6, 2013. This MCAI states:

Several power loss events have been reported on Austro E4 engines, due to fracture of the waste gate controller lever. This condition, if not corrected, could lead to further cases of power loss events, possibly resulting in forced landing, damage to the aeroplane and injury to occupants.

You may obtain further information by examining the MCAI in the AD docket.

Comments

We gave the public the opportunity to participate in developing this AD. We received no comments on the NPRM (78 FR 18920, March 28, 2013).

Conclusion

We reviewed the available data and determined that air safety and the public interest require adopting this AD as proposed (78 FR 18920, March 28, 2013).

Costs of Compliance

We estimate that this AD affects about 64 engines installed on airplanes of U.S. registry. We also estimate that it will take about 0.5 hours per engine to comply with this AD. The average labor rate is $85 per hour. Parts cost about $231. Based on these figures, we estimate the cost of the AD on U.S. operators to be $17,504.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-14-08 Austro Engine GmbH (Formerly Diamond Aircraft Industries GmbH): Amendment 39-17513; Docket No. FAA-2013-0164; Directorate Identifier 2013-NE-10-AD.

(a) Effective Date

This airworthiness directive (AD) becomes effective August 21, 2013.

(b) Affected ADs

None.

(c) Applicability

This AD applies to all Austro Engine GmbH model E4 engines, with a waste gate controller, part number (P/N) E4A-41-120-000 Rev. 050, or lower revision, or a waste gate controller, P/N E4B-41-120-000 Rev. 000, installed.

(d) Reason

This AD was prompted by several reports of power loss events due to fracture of the waste gate controller lever. We are issuing this AD to prevent engine power loss or in-flight shutdown, which could result in loss of control and damage to the airplane.

(e) Actions and Compliance

(1) Unless already done, during the next engine maintenance, or within 110 flight hours, or within three months after the effective date of this AD, whichever occurs first, do the following.

(2) Remove from service waste gate controllers, P/N E4A-41-120-000 Rev. 050, or lower revision, and waste gate controllers, P/N E4B-41-120-000 Rev. 000.

(f) Installation Prohibition

After the effective date of this AD, do not install any waste gate controller, P/N E4A-41-120-000 Rev. 050, or lower revision, or waste gate controller, P/N E4B-41-120-000 Rev. 000, onto any engine.

(g) Alternative Methods of Compliance (AMOCs)

The Manager, Engine Certification Office, may approve AMOCs for this AD. Use the procedures found in 14 CFR 39.19 to make your request.

(h) Related Information

(1) For more information about this AD, contact Frederick Zink, Aerospace Engineer, Engine Certification Office, FAA, Engine & Propeller Directorate, 12 New England Executive Park, Burlington, MA 01803; phone: 781-238-7779; fax: 781-238-7199; email: frederick.zink@faa.gov.

(2) Refer to European Aviation Safety Agency AD 2013-0025, dated February 6, 2013, for related information. You may examine the AD docket on the Internet at http://www.regulations.gov.

(3) Austro Engine GmbH Mandatory Service Bulletin No. MSB-E4-007/4, Revision 4, dated April 24, 2013, which is not incorporated by reference in this AD, can be obtained from Austro Engine GmbH, using the contact information in paragraph (h)(4) of this AD.

(4) For service information identified in this AD, contact Austro Engine GmbH, Rudolf-Diesel-Strasse 11, A-2700 Weiner Neustadt, Austria, phone: +43 2622 23000; fax: +43 2622 23000-2711, and Web site: www.austroengine.at.

(5) You may view this service information at the FAA, Engine & Propeller Directorate, 12 New England Executive Park, Burlington, MA. For information on the availability of this material at the FAA, call 781-238-7125.

(i) Material Incorporated by Reference

None.

Issued in Burlington, Massachusetts, on July 10, 2013.
Colleen M. D'Alessandro,
Assistant Manager, Engine & Propeller Directorate, Aircraft Certification Service.

[FR Doc. 2013-16951 Filed 7-16-13; 8:45 am]

BILLING CODE 4910-13-P